DEPARTMENT OF HEALTH AND HUMAN SERVICES

National Institutes of Health

National Institute on Alcohol Abuse and Alcoholism; Notice of Meeting

Pursuant to section 10(d) of the Federal Advisory Committee Act, as amended (5 U.S.C. Appendix 2), notice is hereby given of a meeting of the Board of Scientific Counselors, NIAAA.

The meeting will be open to the public as indicated below, with attendance limited to space available. Individuals who plan to attend and need special assistance, such as sign language interpretation or other reasonable accommodations, should notify the Contact Person listed below in advance of the meeting.

The meeting will be closed to the public as indicated below in accordance with the provisions set forth in section 552b(c)(6), Title 5 U.S.C., as amended for the review, discussion, and evaluation of individual intramural programs and projects conducted by the National Institute on Alcohol Abuse and Alcoholism, including consideration of personnel qualifications and performance, and the competence of individual investigators, the disclosure of which would constitute a clearly unwarranted invasion of personal privacy.

Name of Committee: Board of Scientific Counselors, NIAAA.

Date: June 6, 2002.

Open: 7:45 a.m. to 8 a.m.

Agenda: To Discuss Administrative Details.

Place: Parklawn Building, The Potomac Conference Room, 5600 Fishers Lane, Rockville, MD 20857.

Closed: 8 a.m. to 5:30 p.m.

Agenda: To review and evaluate the Laboratory of Molecular and Cellular Neurobiology, and the Section on Liver Biology, Laboratory of Physiologic Studies.

Place: Parklawn Building, The Potomac Conference Room, 5600 Fishers Lane, Rockville, MD 20857.

Contact Person: Brenda L. Sandler, Chief Administrative Management Branch, Div of Intramural Clinical and Biological Research, Building, 31, Room 1B58, Bethesda, MD 20892-2088, 301-496-9843, Sandlerb@niaaa.nih.gov.

(Catalogue of Federal Domestic Assistance Program Nos. 93.271, Alcohol Research Career Development Awards for Scientists and Clinicians; 93.272, Alcohol National Research Service Awards for Research Training; 93.273, Alcohol Research Programs; 93.891, Alcohol Research Center Grants, National Institutes of Health, HHS)
Dated: April 23, 2002.
LaVerne Y. Stringfield,
Director, Office of Federal Advisory Committee Policy.

[FR Doc. 02-10670 Filed 4-30-02; 8:45 am]

BILLING CODE 4140-01-M